MILLENNIUM CHALLENGE CORPORATION

[MCC FR 26-01]

Proposed Agency Information Collection Request; Comment Request; Restricted Data Use Application; Submission to the Office of Management and Budget for Review and Approval

AGENCY: Millennium Challenge Corporation.

ACTION: 30-Day notice; request for comments; submission to the Office of Management and Budget for review and approval.

SUMMARY: The Millennium Challenge Corporation (MCC) will submit the following information collection request to the Office of Management and Budget (OMB) for review and approval in accordance with the Paperwork Reduction Act of 1995, on or after the date of publication of this notice and invites the public to comment on the proposed collection. Public comments were previously requested via the Federal Register on September 9, 2025 during a 60-day comment period (90 FR 43480, September 9, 2025). This notice allows for an additional 30 days for public comment.

DATES: Comments are due by February 12, 2026.

ADDRESSES: This information collection request may be viewed at https://www.reginfo.gov. Follow the instructions to view Millennium Challenge Corporation collections currently under review by OMB.

Written comments and recommendations for the proposed information collection should be submitted within 30 days of the publication of this notice on the following website: https://www.reginfo.gov/public/do/PRAMain.

Find this particular information collection by selecting “Currently under 30-day Review—Open for Public Comments” or by using the search function and entering the title of the collection.

FOR FURTHER INFORMATION CONTACT: Requests for additional information regarding the collection listed in this notice, including requests for copies of the proposed collection instrument and supporting documentation, may be directed to Christopher Ice, Chief Information Officer, MCC, pra@mcc.gov, (202) 521-2652.

SUPPLEMENTARY INFORMATION: Title of Information Collection: MCC Restricted Data Use Application.

OMB Control Number: 0414-0001.

Type of Review: Request to reinstate a previously approved information collection.

Affected Public: The likely respondents are expected to be researchers, including university and college faculty and students, who will use this data for statistical analysis.

Estimated Number of Respondents: Approximately 10 new respondents are expected annually to access MCC-funded restricted data.

Frequency: One application for each restricted data package for which access is requested by a respondent.

Estimated Average Burden per Response: 90 minutes.

Estimated Total Annual Burden: 15 hours total.

Respondents' Obligation: Voluntary reply.

Abstract: MCC is committed to providing public access to high-value data collected as part of the development, implementation, and evaluation of MCC-funded assistance programs, while being equally committed to protecting the confidentiality of individuals and organizations from which the data are collected. To achieve these twin aims, MCC publishes de-identified public-use files of microdata on its website through the MCC Evidence Platform. In addition, MCC makes restricted data files available in cases where the de-identification efforts for public use files would significantly impair the analytic potential of the data, or where the data contain sensitive information that cannot be shared as a public-use file. However, access to restricted data will only be granted to users who meet eligibility criteria and agree to terms of access established by MCC, including agreeing to follow strict requirements for maintaining data confidentiality. The MCC Restricted Data Use Application collects information that will be used by MCC and its data steward, the University of Michigan's Interagency Consortium for Political and Social Research (ICPSR), to evaluate whether respondents qualify for access to MCC's restricted data. The application, which will be submitted electronically, requires the provision of specific information by the respondent, such as (i) the name, contact information, and CV/Resume/Biosketch for each person that will access the restricted data, (ii) a research proposal describing the need for the data and how it will be used, (iii) evidence of Institutional Review Board approval or exemption of the research proposal, and (iv) a signed restricted data use agreement.

(Authority: Paperwork Reduction Act of 1995 (44 U.S.C. Chapter 35))

Brian Finkelstein,
Acting Vice President, General Counsel and Corporate Secretary.

[FR Doc. 2026-00437 Filed 1-12-26; 8:45 am]

BILLING CODE 9211-03-P